DEPARTMENT OF COMMERCE

National Oceanic and Atmospheric Administration

[I.D. 031903C]

Western Pacific Fishery Management Council; Public Meeting

AGENCY: National Marine Fisheries Service (NMFS), National Oceanic and Atmospheric Administration (NOAA), Commerce.

ACTION: Notice of public meetings

SUMMARY: The Western Pacific Fishery Management Council (Council) will hold a its Bottomfish Plan Team (BPT) and its Pelagics Plan Team (PPT) in Honolulu, HI.

DATES: The meeting of the BPT will be held on April 22 and 23, 2003 and PPT meeting on April 24 and 25, 2003. Both meetings will be held from 8:30 a.m. to 5 p.m. each day.

ADDRESSES: Both meetings will be held at the Council Office Conference Room, Western Pacific Fishery Management Council, 1164 Bishop St., Suite 1400, Honolulu, HI 96813; telephone: 808-522-8220.

FOR FURTHER INFORMATION CONTACT: Kitty M. Simonds, Executive Director; telephone: 808-522-8220.

SUPPLEMENTARY INFORMATION: The BPT will meet on April 22 and 23, 2003, at the Council Conference Room to discuss the following agenda items:

Tuesday, April 22, 2003, 8:30 a.m.

1. Introduction

2. Annual Report review

a. Review 2002 Annual Report modules and recommendations

b. 2002 Annual Report region-wide recommendations

3. Maximum Sustainable Yield Overfishing Definition

a. Status of stocks based on new definitions

b. Hapuupuu genetic research

c. Main Hawaiian Islands area closure monitoring

d. Rebuilding options for “overfished” stocks

Wednesday, 23 April 8:30 a.m.

4. 2003 Marianas Archipelago Research Cruise

a. Mariana Islands Research Cruise plan

b. Guam, Division of Aquatics and Wildlife Resources initiatives

c. Commonwealth of Northern Mariana Islands Division of Fish and Wildlife initiatives

d. Council initiatives

e. Cooperative research

5. Guam offshore fishery management

Draft amendment

6. Northwestern Hawaiian Islands (NWHI) Bottomfish

a. Mau Zone Community Demonstration Projects Program entry criteria

b. National Ocean Service Sanctuary Designation Process

7. Fishing impacts to Habitats

8. Observer and Monitoring Program

NWHI bottomfish observer coverage

9. Other Business

The PPT will meet on April 24 and 25, 2003, at the Council Conference Room to discuss the following agenda items:

1. Introduction

2. Annual Report review

a. Review 2002 Annual Report modules and recommendations

b. 2002 Annual Report region-wide recommendations

3. NMFS Honolulu longline fishing experiments

4. NMFS Turtle sensory physiology workshop

5. Problems and issues from undocumented deployment of fish aggregating devices (FADs) around Hawaii

6. Standardizing longline catch rates for differences in depth and habitat preferences

7. Stock assessments of Pelagic Management Unit Species (PMUS) and overfishing/maximum sustainable yield (MSY) control rules

8. MULTIFAN-CL sensitivity analysis

9. International pelagic fisheries management

10. Other business

The order in which the agenda items are addressed may change. The BPT will meet as late as necessary to complete scheduled business.

Although non-emergency issues not contained in this agenda may come before these groups for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 25, 2003.
Theophilus R. Brainerd,
Acting Director, Office of Sustainable Fisheries, National Marine Fisheries Service.

[FR Doc. 03-7651 Filed 3-28-03; 8:45 am]

BILLING CODE 3510-22-S